DEPARTMENT OF COMMERCE

National Oceanic and Atmospheric Administration

[Docket No. 000522149-3099-05]

RIN 0648-ZA

Dean John A. Knauss Marine Policy Fellowship, National Sea Grant College Program

AGENCY: Office of Oceanic and Atmospheric Research, National Oceanic and Atmospheric Administration, Commerce.

ACTION: Notice; correction.

SUMMARY: The National Sea Grant College Program published a document in the Federal Register of March 26, 2003, concerning applications to be submitted for a Fellowship program initiated by the National Sea Grant Office (NSGO), National Oceanic and Atmospheric Administration (NOAA). The document contained incomplete information. The full notice can be found at: http://www.nsgo.seagrant.org/Knauss/2004/FRN.html.

FOR FURTHER INFORMATION CONTACT: Ms. Nikola Garber, 301-713-2431 ext. 124; e-mail: nikola.garber@noaa.gov.

Corrections

In the Federal Register of March 26, 2003, in FR Doc. 03-7251, on page 14583 in the first column, correct the SUMMARY caption to read:

SUMMARY: This notice announces that applications may be submitted for a Fellowship program which was initiated by the National Sea Grant Office (NSGO), National Oceanic and Atmospheric Administration (NOAA), in fulfilling its broad educational responsibilities and legislative mandate of the Sea Grant Act, to provide educational experience in the policies and processes of the Legislative and Executive Branches of the Federal Government to graduate students in marine and aquatic-related fields. This notice announces that the Federal Register notice that solicited applications for the program for FY 2002, published on November 14, 2001 (66 FR 57039), is amended to allow excess funds to be used for Fellowship related expenses.

In the Federal Register of March 26, 2003, in FR Doc. 03-7251, on page 14583 in the first column, correct the DATES caption to read:

DATES: Deadlines vary from program to program, but applications from respective fellows to Sea Grant Colleges are generally due early to mid-April. Contact your state's Sea Grant program for specific deadlines (see list below). Selected applications from the sponsoring Sea Grant program (one original and two copies) are to be received in the NSGO no later than 5:00 p.m. e.d.t. on May 14, 2003. Awards are anticipated to start on February 1, 2004. Applications may be modified to reflect the amended items while the March 26, 2003 notice should be consulted for all other requirements necessary for submitting an application.

In the Federal Register of March 26, 2003, in FR Doc. 03-7251, on page 14584 in the first column, the following caption should be inserted immediately before the “How To Apply” caption:

Length of Assignment: The length of the assignment is for one year and is non-renewable. The inclusive dates of the official fellowship are February 1 through January 31; however, these dates can be slightly adjusted to accommodate academic semester needs.

In the Federal Register of March 26, 2003, in FR Doc. 03-7251, on page 14584 in the first column, insert the following sentence at the end of the second paragraph of the “How To Apply” caption:

All unsuccessful applications will be destroyed one year after submission date.

In the Federal Register of March 26, 2003, in FR Doc. 03-7251, on page 14584 in the first column, sentences 3 and 4 of the “Stipend and Expenses” caption should be corrected to read:

The additional $6,000 will be used to cover mandatory health insurance for the Fellow and moving expenses; any remaining funds shall be used during the Fellowship year, first to satisfy academic degree-related activities, and second for Fellowship-related activities.

In the Federal Register of March 26, 2003, in FR Doc. 03-7251, on page 14584 in the second column, sentence 7 of the “Selection” caption should be corrected to read:

Once all applications have been discussed and scored, a numerical ranking will be created based on the average of the panel member scores by the Knauss program manager or designee.

In the Federal Register of March 26, 2003, in FR Doc. 03-7251, on page 14584 in the third column, the following sentence should be inserted directly following the first sentence of the “Federal Policies and Procedures” caption:

Therefore, fellows are not employees of their host agency or NOAA.

In the Federal Register of March 26, 2003, in FR Doc. 03-7251, on page 14584 in the third column at the second sentence of the “Federal Policies and Procedures” caption the word “Hence” should be removed and the sentence should begin with “The Department of Commerce. * * *”

In the Federal Register of March 26, 2003, in FR Doc. 03-7251, on page 14585 in the first column, immediately after the first sentence of the “Classification” caption the following sentence should be inserted:

This program is excluded under E.O. 12372.

Dated: May 7, 2003.
Daniel L. Albritton,
Acting Assistant Administrator, Office of Oceanic and Atmospheric Research.

[FR Doc. 03-11822 Filed 5-12-03; 8:45 am]

BILLING CODE 3510-KA-P